LEGAL SERVICES CORPORATION

Notice of Proposed Revisions to the Grant Terms and Conditions (Formerly the LSC Grant Assurances) for Grant Year 2018 Basic Field Grants

AGENCY: Legal Services Corporation.

ACTION: Notice of proposed changes and request for comments.

SUMMARY: The Legal Services Corporation (LSC) intends to revise the Grant Terms and Conditions (formerly the Grant Assurances) for grant year 2018 Basic Field Grants and is soliciting public comment on the proposed changes.

DATES: All comments and recommendations must be received on or before the close of business on May 8, 2017.

ADDRESSES: You may submit comments by any of the following methods.

Instructions: Electronic submissions are preferred via email with attachments in Acrobat PDF format. LSC may not consider written comments sent via any other method or received after the end of the comment period.

• Include “2018 Basic Field Grant Terms and Conditions” as the heading or subject line for all comments submitted.

• All comments should be addressed to Rebecca D. Weir, Senior Assistant General Counsel, Legal Services Corporation.

• Email: rweir@lsc.gov (preferred).

• Fax: (202) 337-6813.

• Mail or Hand Delivery or Courier: Legal Services Corporation, 3333 K Street NW., Washington, DC 20007.

FOR FURTHER INFORMATION CONTACT: Rebecca D. Weir, Senior Assistant General Counsel, rweir@lsc.gov, (202) 295-1618.

SUPPLEMENTARY INFORMATION: Beginning with grant year 2018, LSC is revising its process for developing the Grant Assurances for the Basic Field Grant program. The Grant Assurances will be renamed the Grant Terms and Conditions and will become a part of the Request for Proposals to better notify Basic Field Grant applicants about the legal, regulatory, and contractual requirements of the grants. The Grant Terms and Conditions delineate LSC and recipients' rights and responsibilities under the grant.

LSC is issuing this Notice for two reasons: (1) To inform recipients and other stakeholders of the change; and (2) to allow interested parties the opportunity to comment on proposed changes to the Terms and Conditions.

For grant year 2018, LSC has not made substantive changes to the grant year 2017 Grant Assurances/Terms and Conditions. LSC proposes adding several terms, however, including:

• Expanded explanations of the statutory restrictions on the use of LSC and non-LSC funds;

• Expanded explanations on the organizational governance and programmatic requirements that recipients of Basic Field Grant funds must follow;

• Explanation of governing law, venue, and mandatory mediation requirements;

• Prohibition on assigning a Basic Field Grant award to another organization;

• Explanation of intellectual property rights in products developed by a grantee using Basic Field Grant funds;

• Explanation of the grantor-grantee relationship between LSC and a successful applicant for funding;

• Standard integration, severability, and indemnification clauses; and

• Expanded explanation of enforcement procedures.

The Proposed 2018 Grant Terms and Conditions are available for review in the Matters for Comment section of www.lsc.gov at http://www.lsc.gov/about-lsc/matters-comment.

Dated: April 3, 2017.
Mark Freedman,
Senior Associate General Counsel.

[FR Doc. 2017-06937 Filed 4-6-17; 8:45 am]

BILLING CODE 7050-01-P